DEPARTMENT OF TRANSPORTATION

Federal Railroad Administration

Environmental Impact Statement for the Expanded Moynihan/Penn Station Redevelopment Project, New York, NY

AGENCY: Federal Railroad Administration (FRA), U.S. Department of Transportation (DOT).

ACTION: Notice of intent to prepare an Environmental Impact Statement.

SUMMARY: FRA is issuing this notice to advise the public that it will jointly prepare an environmental impact statement (EIS) with the New York State Urban Development Corporation d/b/a Empire State Development Corporation (ESDC) to assess the proposed Expanded Moynihan/Penn Station Redevelopment Project (the project) in New York City. The project is a comprehensive public/private development initiative to adaptively reuse the historic James A. Farley Building and the Western Annex (collectively referred to as the Farley Complex) as a new train station (Moynihan West) and relocated Madison Square Garden, to reconstruct critical station and circulation elements at the existing Pennsylvania Station (Penn Station) referred to herein as Moynihan East, and to implement transit-oriented private development.

FRA is issuing this notice to solicit public and agency input into the development of the scope of the EIS and to advise the public that outreach activities conducted by ESDC and its representatives will be considered in the preparation of the EIS. The EIS will be prepared in accordance the National Environmental Policy Act of 1969 (NEPA, 42 U.S.C. 4321 et seq.) and the applicable regulations implementing NEPA as set forth in 40 CFR 1500-1508, FRA's Procedures for Considering Environmental Impacts found at 64 FR 28545 (May 26, 1999), and the New York State Environmental Quality Review Act (SEQRA) and its implementing regulations found at 6 New York Code of Rules and Regulations Part 617. The EIS will also address as necessary Section 106 of the National Historic Preservation Act, Section 4(f) of the U.S. Department of Transportation Act of 1966 (49 U.S.C. 303) (DOT Act) and other applicable federal and state laws and regulations.

The EIS will evaluate a “Preferred Alternative,” a “No Action Alternative” and various build alternatives that modify elements of the Preferred Alternative. There are two options under consideration for the Preferred Alternative. Under either of these options, the development of the Project would occur at the Farley Complex (Block 755) owned by ESDC and bounded by Ninth Avenue to the west, Eighth Avenue to the east, West 31st Street to the south and West 33rd Street to the north; the Penn Station Block (Block 781) bounded by Eighth Avenue to the west, Seventh Avenue to the east, West 31st Street to the south and West 33rd Street to the north; the Railroad Service Building (Block 780, Lot 60) located mid-block on West 31st Street across the street from Penn Station; the eastern and western portions of the One Penn Plaza Block (Block 783) bounded by Eighth and Seventh Avenues and West 33rd to West 34th Streets; and the United States Postal Service (USPS) Morgan Facility and Annex located on two full blocks (Blocks 726 and 727) bounded by Tenth Avenue to the west, Ninth Avenue to the east and between West 28th and West 30th Streets ESDC may also acquire properties on one or more blocks immediately adjacent to the Penn Station Block to facilitate the construction of a loading dock and other support facilities for Moynihan Station, and to otherwise further the goals of the project.

In addition, under one of the two options being considered, the City of New York would establish a new zoning subdistrict (the Subdistrict Option). This Subdistrict Option would allow development rights from the Penn Station Block to be transferred under certain specified conditions to receiving sites located within the subdistrict and at prescribed maximum floor areas. It is anticipated that the boundaries of the proposed subdistrict would include approximately 20 city blocks surrounding the Penn Station Block, extending as far south as West 28th Street, as far north as West 36th Street, as far east as within 200 feet west of Fifth Avenue, and as far west as 200 feet west of Ninth Avenue.

In a related zoning action to be examined in the EIS, the City, in connection with the Subdistrict Option only, has proposed to change the underlying zoning classifications for a number of lots or blocks within the proposed subdistrict from manufacturing and commercial uses (M1-5, M1-6, C6-3X, C6-4X and C6-4M) to C6-4. This zoning change, if adopted by the City, would allow residential uses in certain areas where such uses are not currently permitted by zoning.

DATES: A public scoping meeting will be held on December 6, 2007 in the Farley Building, 380 West 33rd Street, Room 4500, New York, NY from 4 to 8 p.m. A presentation will be made at 4:30 p.m. followed by the opportunity for the public to comment on the scope of the EIS. Those wishing to speak are required to register at the meeting location. At the meeting, comments may also be submitted in written form.

Persons interested in providing written comments on the scope of the EIS should do so by December 17, 2007. Comments should be sent to Rebecca Pellegrini, Moynihan Station Development Corporation, 633 Third Avenue, 36th Floor, New York, NY 1017 or Mr. John Winkle, FRA at the address identified below.

FOR FURTHER INFORMATION CONTACT: For further information regarding the environmental review, please contact: Arnold J. Carter, Sr. Vice President, Communications, Empire State Development Corporation, 633 Third Avenue, New York, NY 10017, (212) 803-3740, or Mr. John Winkle, Transportation Industry Analyst, Federal Railroad Administration, 1120 Vermont Avenue, NW., Mail Stop 20, Washington DC 20590, telephone (202) 493-6067.

SUPPLEMENTARY INFORMATION I. Description of Project. The proposed Expanded Moynihan Project/Penn Station Redevelopment Project is a comprehensive initiative, conceived to address and fulfill the following specific needs and purposes: to create a modern, iconic, and efficient major transportation hub that improves circulation and passenger and pedestrian capacity of the Penn Station complex and expands railroad capacity and throughput; to create a financially viable and dynamic mixed-use rail- and transit-oriented development; to restore and preserve an important historic resource; and to provide a unique opportunity to build a modern and efficient Madison Square Garden arena at a major transit hub.

The development program at full build-out would include: redevelopment of the Farley Complex with a new Moynihan West train station and a new, relocated Madison Square Garden arena; the construction of a rebuilt rail station (the Moynihan East train station) with improved circulation and train halls to replace the existing the Penn Station; the construction of up to 5.4 million square feet in mixed-use development allowed by the zoning of the Penn Station Block (accommodated through on-site development at the Penn Station block or, alternatively, in the subdistrict option, through a combination of 1.1 million square feet at the Penn Station Block and 4.3 million square feet of development in the proposed subdistrict); the construction of an up to approximately 2 million square foot commercial building on the eastern portion of the One Penn Plaza Block at the Penn East site; the construction of a 125,000 square foot retail building on the western portion of the One Penn Plaza Block at the Penn West Site (and under the Subdistrict Option, a larger commercial and retail building at the Penn West Site using 875,000 square feet of development rights from the Penn Station Block); renovation of the Railroad Service building for railroad service, administration or other uses; possible expansion of the Morgan Annex to accommodate the transfer of USPS operations from the Farley Complex (it is assumed that USPS retail services, however, would be located elsewhere in the project area if they do not remain in the Farley Complex); in one potential configuration, the construction of a loading dock and other station-related support facilities on one or more blocks immediately adjacent to the Penn Station Block; and other new commercial and residential development within the proposed subdistrict as a result of a related zoning action by the City of New York and the transfer of development rights from the Farley Complex.

II. Previous Environmental Reviews. The development of plans for improved New York City passenger facilities has been underway since as early as 1991 when the National Railroad Passenger Corporation (Amtrak) began planning for a new intermodal transportation facility. The potential availability of the Farley Complex led to additional efforts to devise plans that incorporated passenger rail facilities in the Farley Complex. A series of environmental reviews have accompanied the various proposals for improvements to the Penn Station facilities and site, including most recently draft and final environmental impact statements that were issued by ESDC under SEQRA in January 31, 2005 and April 27, 2006 respectively. While FRA and the USPS participated with ESDC in the preparation of these SEQRA documents, they were not NEPA documents and did not attempt to specifically satisfy NEPA requirements. The EIS that is the subject of this notice of intent will completely evaluate all of the environmental impacts of the currently proposed actions under NEPA and SEQRA and serve as an original EIS for the FRA but as a supplemental EIS for ESDC given its prior efforts under the 2005/2006 state SEQRA EIS process.

III. Problem Identification/Purpose and Need. The principal public purpose of the project is the improvement of transportation facilities above the existing Penn Station tracks and platforms. The Penn Station complex is America's busiest passenger transportation facility, handling over 550,000 people daily, which is more than Kennedy, LaGuardia and Newark Liberty airports combined. Yet the present station—a three-level, largely subterranean complex designed to handle 200,000 passengers per day—is inadequate to meet the needs of today's passengers. The station is already operating above its design capacity and is expected to experience a rapidly growing passenger load due to, among other factors, the growth of the Midtown business district and the development expected as a result of the Hudson Yards Rezoning.

By rebuilding Penn Station and expanding it within the Farley Complex, the project aims to improve the functionality and capacity of station facilities, increase the reliability and sustainability of the station, and create an architecturally distinctive and welcoming facility that is easily navigable and understood both within the facility and at street level. Further, the project would resolve existing deficiencies in Penn Station that include pedestrian crowding, insufficient passenger waiting areas, confusing circulation, insufficient and outmoded employee facilities, and poor station identification and visibility within the surrounding area. By significantly increasing the amount of public space in the train station, the combination of both the east and west station elements creates an opportunity to establish wider concourses and improved connections to a renovated and expanded Penn Station, grand entrances from Eighth Avenue, and sky-lit train halls.

Another primary goal of the proposed project is the preservation of major portions of the historic Farley Complex, including the exterior, notably the Eighth Avenue entrance and monumental stairs, and certain interior spaces, such as the USPS retail lobby and the New York Postmaster's office. The adaptive reuse of the historic Farley Complex would reflect the original Pennsylvania Station's role as a transportation resource and civic gateway, while preserving and restoring a designated local landmark and National Register property.

The project includes major private sector components as well. Based on an extensive ESDC Developer Selection Process, ESDC conditionally designated a joint venture of the Related Companies and Vornado Realty Trust (the Venture) as project developers in July 2005. The Venture has proposed a revised development program that includes relocating Madison Square Garden to the Western Annex of the Farley Building and rail- and transit-oriented development at Penn Station and nearby development sites. The relocation of Madison Square Garden to the Farley Complex will enable Madison Square Garden to retain its status as an important civic facility that hosts sporting events, political conventions, memorial services, and related activities.

The proposed project would include mixed-use high-rise development constructed above and around the new Moynihan Station with up to 5.4 million square feet of zoning floor area on the Penn Station block (or, in the Subdistrict Option, 1.1 million square feet of new retail development at the Penn Station block and 4.3 million square feet of zoning floor of development in the surrounding area) and approximately 2.125 million square feet on an adjacent block (the Penn East and West development sites). This development takes advantage of its unique location at a large transportation hub and is consistent with New York State and City public policy that promotes transit-oriented development. Additional transit-oriented development may result from a rezoning that has been proposed by the City of New York in connection with the subdistrict option and by the utilization of unused development rights from the Farley Complex at other sites within the subdistrict.

As a high-profile and large-scale public and private development initiative, the proposed project is intended to be a leader in incorporating sustainable development principles in its design and construction. While the planning, design, and construction techniques are still being developed, it is anticipated that buildings located at the Farley Complex, at Penn East and Penn West and on the Penn Station Block will seek to achieve recognition under the Leadership in Energy and Environmental Design (LEED) standards as established by the U.S. Green Building Council and in conformance with city, state, and federal agency initiatives to integrate sustainable design standards in public development projects.

The principal identified federal government roles at this stage of project development that trigger the application of NEPA (and related environmental and historic preservation statutes and regulations) involve the availability of federal funds appropriated by Congress to the FRA and other Department of Transportation operating administrations for improvements to Penn Station incorporating the James A. Farley Building, and FRA's statutory oversight responsibilities with respect to Amtrak. FRA does not have a role in the relocation of Madison Square Garden to the Western Annex or the development of the mixed-use high rise components of the project, both as proposed by the Venture. Other federal agencies, including but not limited to USPS, may participate, as cooperating agencies in the environmental review to the extent other federal actions subject to NEPA are identified.

IV. Alternatives to be Considered. The EIS will consider the Preferred Alternative as established by ESDC, a No Action Alternative and a number of different build alternatives that would modify elements of the Preferred Alternative. These alternatives will consider ways to accommodate truck loading facilities at or near the new station and private development, as well as different sizes and configurations of the proposed development.

V. Probable Effects. The FRA and ESDC will evaluate both project-specific and cumulative changes to the social, economic and physical environment—including land use and socioeconomic conditions, community facilities and services, open space, shadows, water resources, historic and archaeological resources, visual character and aesthetics, contaminated and hazardous materials, transportation, air quality, noise and vibration, infrastructure, environmental justice, and cumulative and secondary effects. The analysis will be undertaken consistent with NEPA, the Council on Environmental Quality regulations, Section 106 of the National Historic Preservation Act, Section 4(f) of the DOT Act and SEQRA, along with other applicable federal and state regulations.

VI. Scoping Process. FRA invites all interested individuals, organizations, and federal, state, and local agencies to comment on the scope of the EIS. Comments are encouraged on specific social, economic, or environmental issues to be evaluated, on the purpose and need for the project, and on reasonable alternatives that may be less costly, more cost effective or have fewer environmental impacts while achieving similar transportation and other objectives. ESDC has also prepared a detailed draft scope of analysis as required under SEQRA and the draft scope may be obtained from ESDC's Web site: http://www.empire.state.ny.us/default.asp or from the contacts identified above.

ESDC will be leading the outreach activities during the public scoping process, beginning with the scoping meeting identified under DATES above. Additional opportunities for public participation will be announced through mailings, notices, advertisements and press releases.

Issued in Washington, DC, on October 31, 2007.
Mark Yachmetz,
Associate Administration for Railroad Development.

[FR Doc. E7-22069 Filed 11-8-07; 8:45 am]

BILLING CODE 4910-06-P